DEPARTMENT OF COMMERCE

International Trade Administration

[A-201-802]

Gray Portland Cement and Clinker from Mexico: Initiation of Changed-Circumstances Review, Preliminary Results of Review, Intent to Revoke Antidumping Duty Order, and Intent to Terminate Five-year (Sunset) Review of Antidumping Duty Order

AGENCY: Import Administration, International Trade Administration, Department of Commerce.

SUMMARY: The Department of Commerce (the Department) is initiating a changed-circumstances review of the antidumping duty order on gray portland cement and clinker from Mexico. As a result of its preliminary analysis, the Department intends to revoke the order and to terminate the five-year (sunset) review of the order.

Interested parties are invited to comment on the preliminary results, the intent to revoke the order, and the intent to terminate the five-year (sunset) review of the antidumping duty order.

EFFECTIVE DATE: February 17, 2009.

FOR FURTHER INFORMATION CONTACT: Hermes Pinilla or Minoo Hatten, AD/CVD Operations, Office 5, Import Administration, International Trade Administration, U.S. Department of Commerce, 14th Street and Constitution Avenue, NW, Washington, DC 20230, telephone: (202) 482-3477 and (202) 482-1690, respectively.

SUPPLEMENTARY INFORMATION:

Background

On March 6, 2006, the Office of the United States Trade Representative, Secretaria de Economia of the United Mexican States, and the Department entered into an Agreement on Trade in Cement (Agreement). See Gray Portland Cement and Clinker from Mexico: Agreement Between the Office of the United States Trade Representative, The United States Department of Commerce and Secretaria de Economia of Mexico on Trade in Cement, 71 FR 13082 (March 14, 2006). Section XI.B of the Agreement states that, provided it “has not been terminated before March 31, 2009,” the Department “shall revoke” the cement order “for all Mexican Cement Producers that have not exported any Mexican Cement to the United States since August 30, 1990, or that have not exported substantially more than the Export Limits” allocated by the Mexican government from April 1, 2008, through March 31, 2009. Pursuant to the terms of the Agreement concerning the revocation of the order, the Department is initiating a changed-circumstances review pursuant to section 751(b) of the Tariff Act of 1930, as amended (the Act), and 19 CFR 351.221(b)(1).

Preliminary Results of Review

The Agreement states that revocation of the order “shall be based on” irrevocable letters which were submitted in accordance with Section II.A.13 by the following domestic producers of the like merchandise: the Southern Tier Cement Committee (STCC) and its members, Capitol Aggregates, Ltd. (Capitol Aggregates), and Holcim (U.S.) Inc. (Holcim). STCC and its members, Capitol Aggregates, and Holcim state in those letters that they have “no interest” in maintaining the order after the expiration of the Agreement and that they will not “file a petition requesting remedies with respect to Mexican cement under the Act, the U.S. countervailing duty law, Sections 201-204 of the Trade Act of 1974, as amended, or Sections 301-305 of the Trade Act of 1974, as amended, {...} for a period of nine (9) months after this Agreement expires and will oppose any such petition filed by any other person or enterprise during that period.” See Section II.A.13 and Appendix 14 of the Agreement.

The Agreement not only required the settlement of litigation of numerous challenges before North American Free Trade Agreement (NAFTA) Panels but also the suspension of a NAFTA challenge pertaining to the 1999 sunset review of the order, the withdrawal of a challenge before the World Trade Organization, the suspension of the 2005 sunset review of this order, the creation and enforcement of an export-license program by the government of Mexico, the implementation of an import-license program by the Department, and the liquidation of certain entries of gray portland cement and clinker from Mexico by U.S. Customs and Border Protection (CBP) in accordance with the terms of the Agreement. We preliminarily determine that all of the terms of the Agreement have been satisfied to date.

Intent to Revoke Order

Because the Department preliminarily determines that the terms of the Agreement and, therefore, the terms of the “no interest” letters from producers accounting for substantially all of the production of the domestic like product have been met, the Department intends to revoke the order in its entirety, effective April 1, 2009.

Intent to Terminate Sunset Review

In accordance with Section II.A.11 of the Agreement, the Department suspended its conduct of the second sunset review initiated on October 3, 2005. See Initiation of Five-year (“Sunset”) Reviews, 70 FR 57560 (October 3, 2005).

Because the Department preliminarily determines that the terms of the Agreement have been fulfilled, the Department intends to terminate the suspended sunset review on March 31, 2009, absent any difficulty in completing the terms of the Agreement before this date.

Suspension of Liquidation

In accordance with Section XI.B of the Agreement, upon revocation of the order we will instruct CBP to discontinue the suspension of liquidation and to cease the collection of cash deposits on entries of subject merchandise entered, or withdrawn from warehouse, for consumption on or after April 1, 2009.

Public Comment

Interested parties are invited to comment on the preliminary results of review, the intent to revoke the order, and the intent to terminate the sunset review. Written comments may be submitted no later than 14 calendar days after the date of publication of this notice. Rebuttals to written comments, limited to issues raised in such comments, may be filed no later than 21 calendar days after the date of publication of this notice.

This notice is published in accordance with sections 751(b)(1) and 777(i) of the Act and 19 CFR 351.221(b)(1).

Dated: February 11, 2009.
Ronald K. Lorentzen,
Acting Assistant Secretary for Import Administration.

[FR Doc. E9-3403 Filed 2-13-09; 8:45 am]

BILLING CODE 3510-DS-S